DEPARTMENT OF ENERGY

Office of Energy Efficiency and Renewable Energy

Request for Information (RFI) on Advanced Manufacturing Office Software Tools

AGENCY: Office of Energy Efficiency and Renewable Energy (EERE), Department of Energy.

ACTION: Notice of posting for public comment, a Request for Information (RFI) on Advanced Manufacturing Office Software Tools.

SUMMARY: The U.S. Department of Energy (DOE) invites public comment on its Request for Information (RFI) number DE-FOA-0001165 regarding Advanced Manufacturing Office Software Tools. The RFI document is posted at https://eere-exchange.energy.gov/.

EERE's Advanced Manufacturing Office (AMO) seeks information from industry, academia, research laboratories, government agencies, and other stakeholders on issues related to market opportunities to enhance and expand upon certain AMO system software tools and related assets. At the present time these software tool resources/assets are primarily maintained and managed by the U.S. Department of Energy's Advanced Manufacturing Office. This RFI seeks information to assist with the transition of these resources to be primarily or solely managed by a third party (or parties). AMO is particularly interested in business strategies to ensure:

• The resource content is maintained, improved and enhanced.

• The resources remain available to the industrial sector.

• The current and future market needs for these system assets are addressed.

• Adaptation to rapidly changing and progressing electronic and IT infrastructure is embraced and addressed.

This is solely a request for information and not a Funding Opportunity Announcement (FOA). EERE is not accepting applications.

DATES: Responses to the RFI must be received on or before September 30, 2014.

ADDRESSES: The complete RFI document is located at https://eere-exchange.energy.gov/.

FOR FURTHER INFORMATION CONTACT: Responses to the RFI and questions should be sent via email or email attachment to AMOTools@ee.doe.gov. Further instruction can be found in the RFI document posted on EERE Exchange.

SUPPLEMENTARY INFORMATION: The RFI is not a Funding Opportunity Announcement (FOA); therefore, EERE is not accepting applications at this time. EERE may issue a FOA in the future based on or related to the content and responses to the RFI; however, EERE may also elect not to issue a FOA. There is no guarantee that a FOA will be issued as a result of the RFI. Responding to the RFI does not provide any advantage or disadvantage to potential applicants if EERE chooses to issue a FOA regarding the subject matter. Final details, including the anticipated award size, quantity, and timing of EERE funded awards, will be subject to Congressional appropriations and direction.

Any information obtained as a result of the RFI is intended to be used by the Government on a non-attribution basis for planning and strategy development; the RFI does not constitute a formal solicitation for proposals or abstracts. Responses to the RFI will be treated as information only. EERE will review and consider all responses in its formulation of program strategies for the identified materials of interest that are the subject of this request. EERE will not provide reimbursement for costs incurred in responding to the RFI. Respondents are advised that EERE is under no obligation to acknowledge receipt of the information received or provide feedback to respondents with respect to any information submitted under the RFI. Responses to the RFI do not bind EERE to any further actions related to this topic.

Issued in Washington, DC, on July 25, 2014.
Mark A. Johnson,
Director, Advanced Manufacturing Office, Energy Efficiency and Renewable Energy.

[FR Doc. 2014-18570 Filed 8-5-14; 8:45 am]

BILLING CODE 6450-01-P